POSTAL SERVICE

39 CFR Part 111

Mailing Currency

AGENCY: Postal Service™.

ACTION: Proposed rule.

SUMMARY: The Postal Service is proposing to amend Mailing Standards of the United States Postal Service, Domestic Mail Manual (DMM®) subsections 503.2.1 and 601.1.0 to clarify mailing standards for currency.

DATES: Submit comments on or before February 22, 2023.

ADDRESSES: Mail or deliver written comments to the manager, Product Classification, U.S. Postal Service, 475 L'Enfant Plaza SW, Room 4446, Washington, DC 20260-5015. If sending comments by email, include the name and address of the commenter and send to PCFederalRegister@usps.gov, with a subject line of “Mailing Currency”. Faxed comments are not accepted.

Confidentiality

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Dale Kennedy at (202) 268-6592 or Garry Rodriguez at (202) 268-7281.

SUPPLEMENTARY INFORMATION:

The Postal Service is proposing to revise subsection 503.2.1 to require commercial cash deposits over $500.00 be sent using Registered Mail® service.

As more business customers look to the Postal Service to mail their cash deposits, it has become necessary to determine the most appropriate method to meet this mailing need. As a result, the Postal Service has determined that requiring commercial cash deposits over $500.00 be sent using Registered Mail, our most secured service, would benefit both customers and the Postal Service.

In addition, the Postal Service is proposing to add new subsection 601.1.3, Mailing Currency, to provide clarity in the mailing of currency including the requirement to send commercial cash deposits over $500.00 as Registered Mail.

The Postal Service is proposing to implement this change effective March 1, 2023.

The Postal Service believes this proposed revision will provide customers with a safe and secure service for their mailing needs.

Although exempt from the notice and comment requirements of the Administrative Procedure Act (5 U.S.C. 553(b), (c)) regarding proposed rulemaking by 39 U.S.C. 410(a), the Postal Service invites public comment on the following proposed revisions to Mailing Standards of the United States Postal Service, Domestic Mail Manual (DMM), incorporated by reference in the Code of Federal Regulations. See 39 CFR 111.1.

We will publish an appropriate amendment to 39 CFR part 111 to reflect these changes.

List of Subjects in 39 CFR Part 111

Administrative practice and procedure.

Accordingly, 39 CFR part 111 is proposed to be amended as follows:

PART 111—[AMENDED.]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

500 Additional Mailing Services

503 Extra Services

* * * * *

* * * * *

2.0 Registered Mail

2.1 Basic Standards

* * * * *

[Revise the text of 2.1 by adding new 2.1.6 to read as follows:]

2.1.6 Mailing Cash Deposits

Items mailed containing commercial cash deposits over $500.00 must be sent as Registered Mail (see 601.1.3.4).

* * * * *

600 Basic Standards for All Mailing Services

601 Mailability

* * * * *

[Renumber 1.3 and 1.4 as 1.4 and 1.5, respectively, and add new 1.3 to read as follows:]

1.3 Mailing Currency

1.3.1 General

Currency (i.e., coins), Federal Reserve notes or other bank notes is mailable under any class of mail except where prohibited by standards.

1.3.2 Insurance

Except for philatelic items and numismatic coins under 609.4.1g, eligible classes of mail containing currency may be insured with a maximum indemnity of $15.00.

1.3.3 Registered Mail

Except under 1.3.4, eligible classes of mail containing currency may use Registered Mail service with included insurance payable at full value up to the applicable limit. (see 503.2.2.1).

1.3.4 Mailing Cash Deposits

The following standards apply for sending commercial cash deposits over $500.00:

a. Mailers must use Registered Mail service under 503.2.1.6.

b. Mailers must not use any USPS-provided packaging.

* * * * *

Tram T. Pham,
Attorney, Ethics and Legal Compliance.

[FR Doc. 2023-01214 Filed 1-20-23; 8:45 am]

BILLING CODE P